ENVIRONMENTAL PROTECTION AGENCY

[FRL-7837-6]

Notice of Availability of the “Model Application/Information Request for CERCLA Service Station Dealer Exemption” Under Section 114(c) of the Comprehensive Environmental Response, Compensation and Liability Act (CERCLA)

AGENCY: Environmental Protection Agency.

ACTION: Notice of availability.

SUMMARY: The U.S. Environmental Protection Agency (EPA) is announcing the availability of the “Model Application/Information Request for CERCLA Service Station Dealer Exemption.”

DATES: The model was issued on November 8, 2004.

ADDRESSES: The model will be available on EPA's Web site at http://www.epa.gov/compliance/resources/policies/cleanup/superfund/ssde-mod-appinfo.pdf.

FOR FURTHER INFORMATION CONTACT: Susan Boushell, EPA's Office of Site Remediation Enforcement, (202) 564-2173 or boushell.susan@epa.gov.

SUPPLEMENTARY INFORMATION: On February 3, 2004 (69 FR 5147), EPA published a notice of availability for public comment on the “Draft Model CERCLA Application/Information Request for Service Station Dealers.” On July 20, 2004 (69 FR 43412), EPA published a notice of availability for public comment on a revised draft model, entitled “Draft Model Application/Information Request for CERCLA Service Station Dealer Exemption.” After careful consideration of the comments received, EPA revised and finalized the model application/ information request. The final model is available on EPA's Web site at http://www.epa.gov/ compliance/resources/policies/cleanup/superfund/ssde-mod-appinfo.pdf.

Dated: November 8, 2004.
Susan E. Bromm,
Director, Office of Site Remediation Enforcement.

[FR Doc. 04-25305 Filed 11-12-04; 8:45 am]

BILLING CODE 6560-50-P